DEPARTMENT OF ENERGY

Office of Science; DOE/NSF Nuclear Science Advisory Committee; Meeting

AGENCY: Department of Energy.

ACTION: Notice of open meeting.

SUMMARY: This notice announces a meeting of the DOE/NSF Nuclear Science Advisory Committee (NSAC). Federal Advisory Committee Act (Public Law 92-463, 86 Stat. 770) requires that public notice of these meetings be announced in the Federal Register.

DATES: Monday, January 29, 2001; 8:30 a.m. to 7:00 p.m. and Tuesday, January 30, 2001; 8:30 a.m. to 7:00 p.m.

ADDRESSES: Doubletree Hotel, 1750 Rockville Pike, Regency Conference Room, Rockville, Maryland 20852-1699.

FOR FURTHER INFORMATION CONTACT: Cathy A. Hanlin, U.S. Department of Energy, 19901 Germantown Road, Germantown, Maryland 20874-1290; Telephone: 301-903-3613.

SUPPLEMENTARY INFORMATION: Purpose of Meeting: To provide advice and guidance on a continuing basis to the Department of Energy and the National Science Foundation on scientific priorities within the field of basic nuclear science research.

Tentative Agenda

Monday, January 29, 2001, and Tuesday, January 30, 2001

• Status Report on DOE Division of Nuclear Physics Activities and Budget Outlook

• Status Report on NSF Nuclear Physics Program Activities and Budget Outlook

• Presentation from Sudbury Neutrino Observatory (SNO)

• Presentations from DOE/NSF Laboratories/University Facilities

• Public Comment (10-minute rule)

• Reports on American Physical Society/Division of Nuclear Physics Town Meetings

• Report from the Rare Isotope Accelerator (RIA) Costing Committee

• Discussion of the RIA Science Whitepaper

• Organizational Issues for the Long Range Plan Working Group

Public Participation: The meeting is open to the public. If you would like to file a written statement with the Committee, you may do so either before or after the meeting. If you would like to make oral statements regarding any of these items on the agenda, you should contact Cathy A. Hanlin at 301-903-3613. You must make your request for an oral statement at least 5 business days before the meeting. Reasonable provision will be made to include the scheduled oral statements on the agenda. The Chairperson of the Committee will conduct the meeting to facilitate the orderly conduct of business. Public comment will follow the 10-minute rule.

Minutes: The minutes of the meeting will be available for public review and copying within 30 days at the Freedom of Information Public Reading Room, Room 1E-190, Forrestal Building, 1000 Independence Avenue, SW, Washington, DC, between 9:00 a.m. and 4:00 p.m., Monday through Friday, except Federal holidays.

Issued at Washington, DC on January 4, 2001.
Rachel M. Samuel,
Deputy Advisory Committee, Management Officer.

[FR Doc. 01-587 Filed 1-8-01; 8:45 am]

BILLING CODE 6450-01-P